SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 15, 2010.

ADDRESSES: Send all comments regarding whether these information collections are necessary for the proper performance of the function of the agency, whether the burden estimates are accurate, and if there are ways to minimize the estimated burden and enhance the quality of the collection, to Cynthia Pitts, Director, Disaster Administrative Services, Small Business Administration, 409 3rd Street, 6th Floor, Washington, DC 20416.

FOR FURTHER INFORMATION CONTACT: Cynthia Pitts, mailto: Director, 202-205-7570 cynthia.pitts@sba.gov Curtis B. Rich, Management Analyst, 202-205-7030 curtis.rich@sba.gov

SUPPLEMENTARY INFORMATION: Per OMB Circular A-123, Appendix B. Agencies must perform credit score inquiries and analysis prior to issuing travel credit cards. When credit score inquiry results in no score, this form will be used as an alternative means to asses credit history as required by the Circular.

Title: “Alternatives Creditworthiness Assessment.”

Description of Respondents: Applicants applying for Disaster Loans.

Form Number: 2294.

Annual Responses: 1,849.

Annual Burden: 8.

FOR FURTHER INFORMATION CONTACT: Carol Fendler, mail to: System Accountant, Office of Investment 202-205-7559, carol.fendler@sba.gov; Curtis B. Rich, Management Analyst, 202-205-7030, curtis.rich@sba.gov.

SUPPLEMENTARY INFORMATION: SBA Forms 2181, 2182 and 2183 provide SBA with the necessary information to make properly supported decisions regarding the approval denial of an applicant for a small business investment company (SBIC) license. SBA uses this information to asses an applicants ability to successfully operate an SBIC within the scope of the Small Business Investment Act, as amended.

Title: “SBIC Management Assessment Questionnaire (MAQ) & License Application; Exhibits to SBIC License Applications/MAQ.”

Description of Respondents: Small Business Owners and Farmers.

Form Number's: 2181, 2182, 2183.

Annual Responses: 255.

Annual Burden: 4,300.

Jacqueline White,
Chief, Administrative Information Branch.

[FR Doc. 2010-322 Filed 1-11-10; 8:45 am]

BILLING CODE 8025-01-P